DEPARTMENT OF THE INTERIOR

Bureau of Land Management

[AK-932-1410-FQ; AA-8914]

Public Land Order No. 7684; Revocation of a Bureau of Land Management Order Dated July 13, 1954; Alaska

AGENCY: Bureau of Land Management, Interior.

ACTION: Public land order.

SUMMARY: This order revokes in its entirety a Bureau of Land Management Order dated July 13, 1954, as it affects 7.79 acres of public land withdrawn from surface entry and mining and reserved for use by the Federal Aviation Administration for Air Navigation Site No. 7 at Slana, Alaska. The land is no longer needed for the purpose for which it was withdrawn.

DATES: Effective Date: January 2, 2008.

FOR FURTHER INFORMATION CONTACT: Renee Fencl, Bureau of Land Management, Alaska State Office, 222 W. Seventh Avenue, #13, Anchorage, Alaska 99513-7599; 907-271-5067.

SUPPLEMENTARY INFORMATION: The Federal Aviation Administration has determined the land is no longer needed for air navigation facility purposes and has requested revocation of the withdrawal. Upon revocation, the State of Alaska applications for selection made under the Alaska Statehood Act and the Alaska National Interest Lands Conservation Act become effective without further action by the State, if such land is otherwise available. Otherwise, the land in this revocation will be subject to the terms and conditions of Public Land Order No. 5184, as amended, and any other withdrawal, applications, or segregation of record.

Order

By virtue of the authority vested in the Secretary of the Interior by Section 204 of the Federal Land Policy and Management Act of 1976, 43 U.S.C. 1714 (2000), it is ordered as follows:

1. Bureau of Land Management Order designating Air Navigation Site No. 7 dated July 13, 1954, which withdrew public land from surface entry and mining and reserved it for use by the Federal Aviation Administration (formerly Civil Aeronautics Administration) for air navigation facility purposes, is hereby revoked in its entirety:

Copper River Meridian

T. 11 N., R. 8 E.,

Sec. 23, located in the Third Judicial Division, Territory of Alaska, from station 1080+00 on the centerline of the Glenn Highway as it existed January 1, 1954, which point bears N. 70°05′ E. 230 feet from the intersection of the Alaska Road Commission's Porcupine Camp Access Road centerline and the centerline of the Glenn Highway, go S. 28°00′ E. 151.51 feet to a tacked hub on the southwardly right-of-way line of the Glenn Highway, which point is the Point-of-Beginning. Thence S. 28°00′ E. 650.00 feet to a tacked hub marked Corner #2. Thence S. 62°00′ W. 495.03 feet to a tacked hub marked Corner #3. Thence N. 28° W. 720.35 feet to a tacked hub marked Corner #4. Thence N. 70°05′ E. 500.00 feet along said southwardly line of said Glenn Highway right-of-way to the Point-of-Beginning.

The area described contains approximately 7.79 acres.

2. The State of Alaska applications for selection made under Section 6(a) of the Alaska Statehood Act of July 7, 1958, 48 U.S.C. note prec. 21 (2000), and under Section 906(e) of the Alaska National Interest Lands Conservation Act, 43 U.S.C. 1635(e) (2000), becomes effective without further action by the State upon publication of this Public Land Order in the Federal Register, if such land is otherwise available. Lands selected by, but not conveyed to, the State will be subject to Public Land Order No. 5184, as amended, and any other withdrawal or segregation of record.

Dated: December 10, 2007.
C. Stephen Allred,
Assistant Secretary—Land and Minerals Management.

[FR Doc. E7-25454 Filed 12-31-07; 8:45 am]

BILLING CODE 4310-JA-P